DEPARTMENT OF ENERGY

Federal Energy Regulatory Commission

Combined Notice of Filings #1

Take notice that the Commission received the following exempt wholesale generator filings:

Docket Numbers: EG20-140-000.

Applicants: RWE Renewables Americas, LLC.

Description: Self Certification of EWG Status of Raymond Wind Farm, LLC.

Filed Date: 4/29/20.

Accession Number: 20200429-5192.

Comments Due: 5 p.m. ET 5/20/20.

Docket Numbers: EG20-141-000.

Applicants: RWE Renewables Americas, LLC.

Description: Notice of Self Certification of EWG Status of West Raymond Wind Farm, LLC.

Filed Date: 4/29/20.

Accession Number: 20200429-5224.

Comments Due: 5 p.m. ET 5/20/20.

Docket Numbers: EG20-142-000.

Applicants: RWE Renewables Americas, LLC.

Description: Notice of Self Certification of EWG Status of Boiling Springs Wind Farm, LLC.

Filed Date: 4/29/20.

Accession Number: 20200429-5226.

Comments Due: 5 p.m. ET 5/20/20.

Take notice that the Commission received the following electric rate filings:

Docket Numbers: ER14-264-006.

Applicants: Emera Maine.

Description: Notice of Change in Status of Emera Maine.

Filed Date: 4/29/20.

Accession Number: 20200429-5284.

Comments Due: 5 p.m. ET 5/20/20.

Docket Numbers: ER19-592-002; ER19-1635-002.

Applicants: Valentine Solar, LLC, Glaciers Edge Wind Project, LLC.

Description: Notice of Change in Status of Valentine Solar, LLC, et al.

Filed Date: 4/28/20.

Accession Number: 20200428-5260.

Comments Due: 5 p.m. ET 5/19/20.

Docket Numbers: ER19-1949-001.

Applicants: New York Independent System Operator, Inc.

Description: Compliance filing: Compliance filing Order Nos. 845 and 845-A re: LGIA and LGIP pro forma to be effective 4/20/2020.

Filed Date: 4/28/20.

Accession Number: 20200428-5218.

Comments Due: 5 p.m. ET 5/19/20.

Docket Numbers: ER19-2522-002.

Applicants: Southwest Power Pool, Inc.

Description: Compliance filing: Exit Fee Compliance Revisions in Response to December 2019 Order to be effective 12/19/2019.

Filed Date: 4/29/20.

Accession Number: 20200429-5121.

Comments Due: 5 p.m. ET 5/20/20.

Docket Numbers: ER20-1039-001.

Applicants: GridLiance Heartland LLC.

Description: Compliance filing: GLH ITA Compliance Filing to be effective 7/1/2020.

Filed Date: 4/29/20.

Accession Number: 20200429-5046.

Comments Due: 5 p.m. ET 5/20/20.

Docket Numbers: ER20-1040-001.

Applicants: GridLiance West LLC.

Description: Compliance filing: GridLiance West LLC ITA Settlement Compliance Filing (7-1-20) to be effective 7/1/2020.

Filed Date: 4/28/20.

Accession Number: 20200428-5214.

Comments Due: 5 p.m. ET 5/19/20.

Docket Numbers: ER20-1166-001.

Applicants: Outlaw Wind Project, LLC.

Description: Tariff Amendment: Amendment to 2 to be effective 5/4/2020.

Filed Date: 4/28/20.

Accession Number: 20200428-5188.

Comments Due: 5 p.m. ET 5/8/20.

Docket Numbers: ER20-1675-000.

Applicants: Little Bear Solar 1, LLC.

Description: § 205(d) Rate Filing: Notice of Non-Material Change in Status and Revised Market-Based Rate Tariff to be effective 4/29/2020.

Filed Date: 4/28/20.

Accession Number: 20200428-5198.

Comments Due: 5 p.m. ET 5/19/20.

Docket Numbers: ER20-1676-000.

Applicants: Little Bear Solar 3, LLC.

Description: § 205(d) Rate Filing: Notice of Non-Material Change in Status and Revised Market-Based Rate Tariff to be effective 4/29/2020.

Filed Date: 4/28/20.

Accession Number: 20200428-5217.

Comments Due: 5 p.m. ET 5/19/20.

Docket Numbers: ER20-1677-000.

Applicants: Little Bear Solar 4, LLC.

Description: § 205(d) Rate Filing: Notice of Non-Material Change in Status and Revised Market-Based Rate Tariff to be effective 4/29/2020.

Filed Date: 4/28/20.

Accession Number: 20200428-5220.

Comments Due: 5 p.m. ET 5/19/20.

Docket Numbers: ER20-1678-000.

Applicants: Little Bear Solar 5, LLC.

Description: § 205(d) Rate Filing: Notice of Non-Material Change in Status and Revised Market-Based Rate Tariff to be effective 4/29/2020.

Filed Date: 4/28/20.

Accession Number: 20200428-5227.

Comments Due: 5 p.m. ET 5/19/20.

Docket Numbers: ER20-1679-000.

Applicants: Vermont Transco LLC.

Description: § 205(d) Rate Filing: Shared Structure Participation Agreement and Operating and Maintenance Agreement to be effective 5/1/2020.

Filed Date: 4/29/20.

Accession Number: 20200429-5043.

Comments Due: 5 p.m. ET 5/20/20.

Docket Numbers: ER20-1680-000.

Applicants: Southwest Power Pool, Inc.

Description: § 205(d) Rate Filing: 3660 Solaer USA NM ACR, LLC GIA to be effective 4/17/2020.

Filed Date: 4/29/20.

Accession Number: 20200429-5083.

Comments Due: 5 p.m. ET 5/20/20.

Docket Numbers: ER20-1681-000.

Applicants: PJM Interconnection, L.L.C.

Description: § 205(d) Rate Filing: Amendment to ISA, Service Agreement No. 4511; Queue No. AB1-127 re: Assignment to be effective 7/13/2016.

Filed Date: 4/29/20.

Accession Number: 20200429-5112.

Comments Due: 5 p.m. ET 5/20/20.

Docket Numbers: ER20-1682-000.

Applicants: Clearway Power Marketing LLC.

Description: § 205(d) Rate Filing: Market-Based Rate Tariff Revisions to be effective 4/30/2020.

Filed Date: 4/29/20.

Accession Number: 20200429-5117.

Comments Due: 5 p.m. ET 5/20/20.

Docket Numbers: ER20-1683-000.

Applicants: Wabash Valley Power Association, Inc.

Description: Initial rate filing: Filing of Distributed Generation Policy D-11 to be effective 4/29/2020.

Filed Date: 4/29/20.

Accession Number: 20200429-5142.

Comments Due: 5 p.m. ET 5/20/20.

Docket Numbers: ER20-1684-000.

Applicants: Midcontinent Independent System Operator, Inc., Ameren Illinois Company, Ameren Transmission Company of Illinois.

Description: § 205(d) Rate Filing: 2020-04-29_Rate Schedule 55 Ameren-Prarie Power JPZ Adding GLH to be effective 4/1/2020.

Filed Date: 4/29/20.

Accession Number: 20200429-5149.

Comments Due: 5 p.m. ET 5/20/20.

Docket Numbers: ER20-1685-000.

Applicants: Vermont Transco LLC.

Description: Notice of Cancellation of Bill-Back Agreement and Operating and Maintenance Agreement of Vermont Transco LLC.

Filed Date: 4/29/20.

Accession Number: 20200429-5159.

Comments Due: 5 p.m. ET 5/20/20.

Docket Numbers: ER20-1686-000.

Applicants: TrailStone Energy Marketing, LLC.

Description: § 205(d) Rate Filing: Normal filing 2020 2 to be effective 4/30/2020.

Filed Date: 4/29/20.

Accession Number: 20200429-5172.

Comments Due: 5 p.m. ET 5/20/20.

Docket Numbers: ER20-1687-000.

Applicants: Southwest Power Pool, Inc.

Description: § 205(d) Rate Filing: Revisions to Eliminate Attachment Z2 Revenue Credits to be effective 7/1/2020.

Filed Date: 4/29/20.

Accession Number: 20200429-5181.

Comments Due: 5 p.m. ET 5/20/20.

Docket Numbers: ER20-1688-000.

Applicants: New York Independent System Operator, Inc.

Description: § 205(d) Rate Filing: NYPA 205 re: OATT 6.10.8 Regulated Transmission Facility Charge—AC Projects to be effective 7/1/2020.

Filed Date: 4/29/20.

Accession Number: 20200429-5244.

Comments Due: 5 p.m. ET 5/20/20.

Docket Numbers: ER20-1689-000.

Applicants: Midcontinent Independent System Operator, Inc.

Description: § 205(d) Rate Filing: 2020-04-29_TOA Lender Fix Filing to be effective 6/29/2020.

Filed Date: 4/29/20.

Accession Number: 20200429-5263.

Comments Due: 5 p.m. ET 5/20/20.

Docket Numbers: ER20-1690-000.

Applicants: Republic Transmission, LLC.

Description: Baseline eTariff Filing: Republic Transmission Purchase and Operating Agreement Filing to be effective 6/1/2020.

Filed Date: 4/29/20.

Accession Number: 20200429-5269.

Comments Due: 5 p.m. ET 5/20/20.

Docket Numbers: ER20-1691-000.

Applicants: Arkansas Electric Cooperative Corp.

Description: Notice of Change in Status for a Reactive Power Resource of Arkansas Electric Cooperative Corporation.

Filed Date: 4/29/20.

Accession Number: 20200429-5301.

Comments Due: 5 p.m. ET 5/20/20.

Docket Numbers: ER20-1692-000.

Applicants: New England Power Company.

Description: § 205(d) Rate Filing: Filing of Local Service Agreement with NSTAR Electric Company to be effective 3/30/2020.

Filed Date: 4/29/20.

Accession Number: 20200429-5323.

Comments Due: 5 p.m. ET 5/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2020.
Nathaniel J. Davis, Sr.,
Deputy Secretary.

[FR Doc. 2020-09578 Filed 5-4-20; 8:45 am]

BILLING CODE 6717-01-P